DEPARTMENT OF ENERGY

Federal Energy Regulatory Commission

[Docket No. IC19-15-000]

Commission Information Collection Activities (Ferc-730); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection, FERC-730 (Report of Transmission Investment Activity) and submitting the information collection to the Office of Management and Budget (OMB) for review. Any interested person may file comments directly with OMB and should address a copy of those comments to the Commission as explained below. On February 25, 2019, the Commission published a Notice in the Federal Register in Docket No. IC19-15-000 requesting public comments. The Commission received no public comments and is noting that in the related submittal to OMB.

DATES: Comments on the collection of information are due June 6, 2019.

ADDRESSES: Comments filed with OMB, identified by OMB Control No. 1902-0239, should be sent via email to the Office of Information and Regulatory Affairs: oira_submission@omb.gov. Attention: Federal Energy Regulatory Commission Desk Officer.

A copy of the comments should also be sent to the Commission, in Docket No. IC19-15-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-730, Report of Transmission Investment Activity.

OMB Control No.: 1902-0239.

Type of Request: Three-year extension of the FERC-730 information collection requirements with no changes to the current reporting requirements.

Abstract: The Commission uses the FERC-730 information collection to determine the effectiveness of its rules and to provide it with an accurate assessment of the state of transmission investment by public utilities. This annual report includes projections, information that details the level and status of transmission investment, and the reason for delay (if any). The report must conform to the format prescribed in Order No. 679, Appendix A.¹ Filers are strongly encouraged to submit the FERC-730 electronically via eFiling. FERC-730 is filed by public utilities that have been granted incentive rate treatment for specific electric transmission projects. Actual and planned transmission investments, and related project data for the most recent calendar year and the subsequent five years, must be reported annually beginning with the calendar year that the Commission granted the incentive rates.

¹ Issued on 12/22/2006 in Docket No. RM06-4-001 (Promoting Transmission Investment through Pricing Reform).

Congress enacted section 1241 of the Energy Policy Act of 2005 (EPAct 2005), adding section 219 to the Federal Power Act (FPA), to promote the operation, maintenance and enhancement of electric transmission infrastructure.² Congress aimed to benefit consumers by ensuring reliability and/or reducing the cost of delivered power through reducing transmission congestion. In response to EPAct 2005, the Commission amended its regulations to allow for these incentive-based, (including performance-based), rate treatments.

² Energy Policy Act of 2005, Public Law 109-58, 119 Stat. 594, 315 and 1283 (2005).

The Commission amended its regulations in 18 CFR 35.35 to identify the incentive ratemaking treatments allowed under FPA section 219. Incentives are required to be tailored to the type of transmission investments being made, and each applicant must demonstrate that its proposal meets the requirements of FPA section 219.

Type of Respondents: Public utilities that have been granted incentive based rate treatment for specific transmission projects under provisions of 18 CFR 35.35

Estimate of Annual Burden: ³ The Commission estimates⁴ the total Public Reporting Burden and cost for this information collection as follows:

³ Burden is defined as the total time, effort, or financial resources expended by persons to generate, maintain, retain, or disclose or provide information to or for a Federal agency. For further explanation of what is included in the information collection burden, refer to Title 5 Code of Federal Regulations 1320.3.

⁴ The estimates for cost per response are derived using the formula: Average Burden Hours per Response * 79.00 per hour = Average Cost per Response. The hourly cost figure comes from the FERC average salary plus benefits of $164,820 per year (or $79.00/hour). These estimates were updated in May 2018. This figure is being used because the staff thinks industry is similarly situated in terms of average hourly cost.

FERC-730—Report of Transmission Investment Activity
| Number of respondents | Number of responses per respondent | Total number of responses | Average burden hours & average cost per response ($) ⁴ | Total annual burden hours & total annual cost ($)
| (1) | (2) | (1) × (2) = (3) | (4) | (3) × (4) = (5)
FERC-730 | 63 | 1 | 63 | 30 hrs.; $2,370 | 1,890 hrs.; $149,310.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 30, 2019.
Kimberly D. Bose,
Secretary.

[FR Doc. 2019-09296 Filed 5-6-19; 8:45 am]

BILLING CODE 6717-01-P